DEPARTMENT OF COMMERCE

National Oceanic and Atmospheric Administration

50 CFR Part 635

[Docket No. 000629197-3147-04; I.D. 032900A]

RIN 0648-AN06

Atlantic Highly Migratory Species (HMS); Monitoring of Recreational Landings; Retention Limit for Recreationally Landed North Atlantic Swordfish; Technical Amendment

AGENCY: National Marine Fisheries Service (NMFS), National Oceanic and Atmospheric Administration, Commerce.

ACTION: Final rule; technical amendment.

SUMMARY: This document clarifies and corrects a cross-reference in final regulations that were published in the Federal Register of Tuesday, January 7, 2003. The final rule amended the regulations governing Atlantic billfish and North Atlantic swordfish recreational fisheries.

DATES: Effective on June 25, 2003.

FOR FURTHER INFORMATION CONTACT: Russell Dunn or Richard A. Pearson at 727-570-5447.

SUPPLEMENTARY INFORMATION: In a final rule published on January 7, 2003, (68 FR 711), an amendment to § 635.5(c) inadvertently contained an incorrect reference in the last sentence. The sentence indicated that HMS tournament landings must be reported to NMFS as specified under § 635.5(c) of the section. HMS tournament landing reports are actually specified and described under § 635.5(d) of the section. This amendment to the final rule removes the incorrect reference to tournament reporting at § 635.5(c) and replaces it with the correct reference to tournament reporting as specified at § 635.5(d).

Classification

This rule is published under the authority of the Magnuson-Stevens Fishery Conservation and Management Act (Magnuson-Stevens Act) and the Atlantic Tunas Convention Act. The Assistant Administrator for Fisheries, NOAA (AA), has determined that this rule is consistent with the Magnuson-Stevens Act and other applicable laws.

The AA finds that good cause exists to waive the requirement to provide prior notice and the opportunity for comment, pursuant to authority set forth at 5 U.S.C. 553(b)(B), as such procedures would be unnecessary. This rule makes a minor, non-substantive change to correct an incorrect reference to another regulation. Because this rule makes non-substantive or de minimus changes to the existing regulations, the AA also finds good cause, under 5 U.S.C. 553(d), not to delay for 30 days the effective date of this action. NMFS has the ability to rapidly communicate the amendments in this rule to fishery participants through its FAX network and HMS Information Line.

Because prior notice and opportunity for public comment are not required for this rule by 5 U.S.C. 553, or by any other law, the analytical requirements of the Regulatory Flexibility Act, 5 U.S.C. 601 et seq., are inapplicable.

This action is not significant under the meaning of Executive Order 12866.

List of Subjects in 50 CFR Part 635

Fisheries, Fishing, Fishing vessels, Foreign relations, Intergovernmental relations, Penalties, Reporting and recordkeeping requirements, Statistics, Treaties.

Dated: June 19, 2003.
John Oliver,
Deputy Assistant Administrator for Operations, National Marine Fisheries Service.

Accordingly, 50 CFR part 635 is corrected by making the following correcting amendment:

PART 635—ATLANTIC HIGHLY MIGRATORY SPECIES

1. The authority citation for part 635 continues to read as follows:

Authority: 16 U.S.C. 971 et seq.; 16 U.S.C. 1801 et seq.

2. In § 635.5, the last sentence in paragraph (c) introductory text is revised to read as follows:

§ 635.5 Recordkeeping and reporting.

* * * * *

(c) Anglers. * * * Tournament landings must be reported as specified under paragraph (d) of this section.

* * * * *

[FR Doc. 03-16087 Filed 6-24-03; 8:45 am]

BILLING CODE 3510-22-S